NATIONAL SCIENCE FOUNDATION

Special Emphasis Panel in Materials Research; Notice of Meetings

In accordance with the Federal Advisory Committee Act (Pub. L. 92-463, as amended), the National Science Foundation announces the following meetings:

Name: Special Emphasis Panel in Materials Research (DMR) #1203.

Dates & Times: 8:30 am-5 pm each day.

Date | Room No. | Panel number
April 4, 2000 | 340 | A
April 6-7, 2000 | 340 | B
April 6-7, 2000 | 365 | C
April 17, 2000 | 365 | D
April 17, 2000 | 320 | E
April 18-19, 2000 | 320 | F
April 18-19, 2000 | 365 | G
April 20-21, 2000 | 320 | H
April 20-21, 2000 | 365 | I

Place: National Science Foundation, 4201 Wilson Blvd., Arlington, VA 22230.

Type of Meeting: Closed.

Contact Persons: Dr. Guebre X. Tessema, Program Director, NAFI, Division of Materials Research, Room 1065, National Science Foundation, 4201 Wilson Boulevard, Arlington, VA 22230, Telephone (703) 306-1817.

Purpose of Meeting: To provide advice and recommendations concerning proposals submitted to NSF for financial support.

Agenda: Review and evaluate proposals as part of the selection process to determine finalists considered for support for the instrumentation proposals submitted in response to program solicitation number NSF 99-170 and NSF 99-168.

Reason for Closing: The activity being evaluated may include information of a proprietary or confidential nature, including technical information; financial data, such as salaries and personal information concerning individuals associated with the proposals. These matters are exempt under 5 U.S.C. 552b.b.(c), (4) and (6) of the Government in the Sunshine Act.

Dated: March 6, 2000.
Karen J. York,
Committee Management Officer.

[FR Doc. 00-5871 Filed 3-9-00; 8:45 am]

BILLING CODE 7555-01-M